ENVIRONMENTAL PROTECTION AGENCY

[EPA-HQ-OAR-2009-049; FRL-9914-20-OEI]

Information Collection Request Submitted to OMB for Review and Approval; Comment Request; Federal Implementation Plans To Reduce Interstate Transport of Fine Particulate Matter and Ozone (Renewal)

AGENCY: Environmental Protection Agency (EPA).

ACTION: Notice.

SUMMARY: The Environmental Protection Agency has submitted an information collection request (ICR), “Information Collection Request Renewal for the Federal Implementation Plans to Reduce Interstate Transport of Fine Particulate Matter and Ozone” (EPA ICR Number 2391.03, OMB Control No. 2060-0667) to the Office of Management and Budget (OMB) for review and approval in accordance with the Paperwork Reduction Act (44 U.S.C. 3501 et seq.). This is a proposed extension of the ICR, which is currently approved through July 31, 2014. Public comments were previously requested via the Federal Register (79 FR 7179) on February 6, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 25, 2014.

ADDRESSES: Submit your comments, referencing Docket ID Number EPA-HQ-OAR-2009-0491, to (1) EPA online using www.regulations.gov (our preferred method), by email to a-and-r-docket@epamail.epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204J), Environmental Protection Agency, 1200 Pennsylvania Ave. NW., Washington, DC 20460; telephone number (202) 343-9220; fax number: (202) 343-2361; email address: vansickle.karen@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The United States Environmental Protection Agency (EPA) is proposing to renew an information collection request for the Federal Implementation Plans to Reduce Interstate Transport of Fine Particulate Matter and Ozone (Transport Rule) to allow for future implementation of the rule. The Transport Rule was published in the Federal Register on August 8, 2011 (76 FR 48208) ¹ and compliance obligations were originally scheduled to commence on January 1, 2012. However, the U.S. Court of Appeals for the District of Columbia Circuit (D.C. Circuit) stayed the rule prior to implementation and subsequently issued an opinion vacating the rule. On April 29, 2014, the U.S. Supreme Court reversed the D.C. Circuit opinion vacating the Transport Rule. On June 26, 2014 the U.S. Department of Justice filed a motion on EPA's behalf at the D.C. Circuit seeking to have the stay lifted and to allow compliance obligations under the rule to commence as of January 1, 2015. The D.C. Circuit has not yet ruled on that motion.

¹ A supplemental rule extending the Transport Rule's ozone-season NOX requirements to sources in five additional states was published in the Federal Register on December 27, 2011 (76 FR 80760).

Once implemented, the Transport Rule's requirements would incorporate and supersede the existing requirements under the Clean Air Interstate Rule (CAIR). CAIR's requirements, in turn, incorporated certain requirements under the NOX SIP Call. The Transport Rule includes new reporting requirements and, like CAIR and the NOX SIP Call, combines these requirements with existing requirements from the Acid Rain Program (ARP) under Title IV of the Clean Air Act (CAA) Amendments of 1990. Each of these existing requirements has an approved ICR in place. All data received by EPA will be treated as public information. An agency may not conduct or sponsor, and a person is not required to respond to, a collection of information unless it displays a currently valid OMB control number. The OMB control numbers for EPA's regulations in 40 CFR are listed in 40 CFR part 9.

Form numbers: None.

Respondents/affected entities: Entities potentially affected by this action are those which are subject to the Federal Implementation Plans: Interstate Transport of Fine Particulate Matter and Ozone (76 FR 48208, Aug. 8, 2011) and Federal Implementation Plans for Iowa, Michigan, Missouri, Oklahoma, and Wisconsin (76 FR 80760, Dec. 27, 2011).

Respondent's obligation to respond: Mandatory (Sections 110(a) and 301(a) of the Clean Air Act).

Estimated number of respondents: EPA estimates that there are 1,305 (1,201 industry and 104 state or local) respondents that will conduct monitoring in accordance with Part 75.

Frequency of response: Yearly, quarterly, occasionally.

Total estimated burden: 188,001 hours (per year). Burden is defined at 5 CFR 1320.3(b).

Total estimated cost: $26,718,842 (per year), includes $13,150,678 annualized capital or operation & maintenance costs.

Changes in the estimates: There is an increase of 2800 in the hours in the total estimated respondent burden compared with the ICR currently approved by OMB. This increase is due to the inclusion of 100 hours annually per state (28 states) to prepare optional State Implementation Plan submissions to reallocate emission allowances, which was inadvertently omitted from the original rule ICR Supporting Statement.

Spencer W. Clark,
Acting Division Director, Collection Strategies Division.

[FR Doc. 2014-17377 Filed 7-23-14; 8:45 am]

BILLING CODE 6560-50-P